DEPARTMENT OF COMMERCE

National Oceanic and Atmospheric Administration

50 CFR Part 679

[I.D. 032800B]

Fisheries of the Exclusive Economic Zone Off Alaska; Amendments 61/61/13/8 to Implement Major Provisions of the American Fisheries Act

AGENCY: National Marine Fisheries Service (NMFS), National Oceanic and Atmospheric Administration (NOAA), Commerce.

ACTION: Notice of intent; scoping period; request for comments.

SUMMARY: NMFS announces its intent to prepare an environmental impact statement (EIS) on proposed Amendment 61 to the Fishery Management Plan for the Groundfish Fishery of the Bering Sea and Aleutian Islands Area, proposed Amendment 61 to the Fishery Management Plan for Groundfish of the Gulf of Alaska, proposed Amendment 13 to the Fishery Management Plan for Bering Sea and Aleutian Islands King and Tanner Crab, and proposed Amendment 8 to the Fishery Management Plan for the Scallop Fishery off Alaska (FMPs). These fishery management plan (FMP) amendments would incorporate the provisions of the American Fisheries Act (AFA) into the FMPs and their implementing regulations. The scope of the analysis will include all proposed regulations and activities that would be implemented under the proposed FMP amendments.

DATES: Written comments will be accepted through May 8, 2000.

ADDRESSES: Written comments and requests to be included on a mailing list of persons interested in the EIS should be sent to Lori Gravel, NMFS, Alaska Region, P.O. Box 21668, Juneau, AK 99802, or delivered to the Federal Office Building, Room 457-1, 709 West 9th Street, Juneau, AK, and marked Attn: Lori Gravel.

FOR FURTHER INFORMATION CONTACT: Kent Lind, NMFS, (907) 586-7228 or kent.lind@noaa.gov.

SUPPLEMENTARY INFORMATION: NMFS manages the U.S. groundfish fisheries in the exclusive economic zone of the Bering Sea and Aleutian Islands Management Area (BSAI) and Gulf of Alaska (GOA) under the FMPs for groundfish in the respective areas. With Federal oversight, the State of Alaska (State) manages the commercial king crab and Tanner crab fisheries in the BSAI and the commercial scallop fishery off Alaska under the FMPs for those fisheries. The North Pacific Fishery Management Council (Council) prepared, and NMFS approved, the FMPs under the authority of the Magnuson-Stevens Fishery Conservation and Management Act, 16 U.S.C. 1801 et seq. Regulations implementing the FMPs appear at 50 CFR part 679. General regulations governing U.S. fisheries also appear at 50 CFR part 600.

EISs were prepared and filed when the FMPs for the groundfish fisheries of the BSAI and GOA were prepared and approved by NMFS in 1978 and 1981, respectively. On October 1, 1999, NMFS announced its intent to prepare a programmatic supplemental environmental impact statement that defined the Federal action under review as, among other things, all activities authorized and managed under the FMPs and all amendments thereto, and that addresses the conduct of the BSAI and GOA groundfish fisheries as a whole. Work on this programmatic SEIS is ongoing. However, the programmatic SEIS will not examine in detail a range of alternatives specific to proposed Amendments 61/61/13/8 and implementation of the AFA.

The National Environmental Policy Act (NEPA) requires preparation of EISs for major Federal actions significantly affecting the quality of the human environment. NEPA regulations state: “Environmental impact statements may be prepared, and are sometimes required, for broad Federal actions such as the adoption of new agency programs or regulations” (40 CFR 1502.4). NMFS has determined that the new management programs mandated by the AFA and proposed to be implemented under Amendments 61/61/13/8 are of sufficient magnitude to warrant preparation of a separate EIS for these amendments.

The AFA, Div. C, Title II, Subtitle II, Pub. L. No. 105-277, 112 Stat. 2681 (1998), made profound changes in the management of the groundfish fisheries of the BSAI and, to a lesser extent, the groundfish fisheries of the GOA, crab fisheries of the BSAI, and scallop fishery off Alaska, and requires the adoption of new agency programs and regulations. With respect to the groundfish and crab fisheries off Alaska, the AFA—

(1) Established a new allocation scheme for BSAI pollock that allocates 10 percent of the BSAI pollock total allowable catch (TAC) to the Community Development Quota (CDQ) Program, and after allowance for incidental catch of pollock in other fisheries, allocates the remaining TAC as follows: 50 percent to vessels harvesting pollock for processing by inshore processors, 40 percent to vessels harvesting pollock for processing by catcher/processors, and 10 percent to vessels harvesting pollock for processing by motherships;

(2) Provided for the buyout of nine pollock catcher/processors and the subsequent scrapping of eight of these vessels through a combination of $20 million in Federal appropriations and $75 million in direct loan obligations;

(3) Required a fee of six-tenths (0.6) of one cent for each pound round weight of pollock harvested by catcher vessels delivering to inshore processors for the purpose of repaying the $75 million direct loan obligation;

(4) Listed by name and/or provided qualifying criteria for those vessels and processors eligible to participate in the non-CDQ portion of the BSAI pollock fishery;

(5) Increased observer coverage and scale requirements for AFA catcher/processors;

(6) Established limitations for the creation of fishery cooperatives in the catcher/processor, mothership, and inshore industry sectors of the BSAI pollock fishery;

(7) Required that NMFS grant individual allocations of the inshore BSAI pollock TAC to inshore catcher vessel cooperatives that form around a specific inshore processor and agree to deliver the bulk of their catch to that processor;

(8) Required harvesting and processing restrictions (commonly known as “sideboards”) on fishermen and processors who have received exclusive harvesting or processing privileges under the AFA to protect the interests of fishermen and processors who have not directly benefitted from the AFA; and

(9) Established excessive share harvesting caps for BSAI pollock and directed the Council to develop excessive share caps for BSAI pollock processing and for the harvesting and processing of other groundfish.

Since the passage of the AFA in October 1998, NMFS has begun to implement specific provisions of the AFA through a variety of mechanisms. For the 2000 fishing year, NMFS implemented AFA-related permit requirements through an emergency interim rule published on January 5, 2000 (65 FR 380). AFA-related pollock allocations, monitoring requirements, and sideboard restrictions were implemented through a second emergency rule published January 28, 2000 (65 FR 4520). Required changes to the CDQ program were implemented through an emergency interim rule (64 FR 3877, January 26, 1999; extended at 64 FR 34743, June 29, 1999). Since the passage of the AFA, the Council also has taken an active role in the development of management measures to implement the various provisions of the AFA. The Council began consideration of the implications of the AFA during a special meeting in November 1998, during which it discussed AFA-related actions that were required for the 1999 fishing year. At its December 1998 meeting, the Council began an analysis of a suite of AFA-related management measures that subsequently became known as Amendments 61/61/13/8. The Council conducted an initial review of Amendments 61/61/13/8 and related AFA measures at its April 1999 meeting, and took final action on these amendments at its June 1999 meeting. At its December 1999 meeting, the Council reviewed the status of Amendments 61/61/13/8 and recommended that NMFS proceed immediately with an emergency interim rule to implement the Council's June 1999 recommendations so that AFA regulations could be in place prior to the start of the 2000 fisheries while Amendments 61/61/13/8 and the proposed rule to implement the amendments are under continued development and review by the Council and NMFS. In accordance with the Council's recommendation, NMFS has implemented the main provisions of Amendments 61/61/13/8 through the two emergency interim rules cited here to meet the statutory deadlines contained in the AFA for most management measures.

With this document, NMFS announces its intent to prepare an EIS on proposed Amendments 61/61/13/8 that defines the proposed Federal action under review as the suite of regulations and management measures that, taken as a whole, would implement the required provisions of the AFA as recommended by the Council under proposed Amendments 61/61/13/8. NMFS will present in the EIS an overview and an assessment of all impacts (including environmental, biological, economic, and socio-economic) that result from fishing and processing activities that would be conducted under proposed Amendments 61/61/13/8 and all reasonable alternatives. The Responsible Program Manager for this EIS is Steven Pennoyer, Administrator, Alaska Region, NMFS.

Alternatives

The EIS will consider a range of alternative management measures to implement the requirements of the AFA. The EIS will not consider detailed alternatives that are inconsistent with the statutory requirements of the AFA, or alternatives that would expand the provisions of the AFA into other groundfish or crab fisheries under the authority of the Council. This EIS also will not consider alternatives for the buyout and scrapping of ineligible catcher/processors or the 0.6 cent/lb fee on inshore pollock because these two provisions of the AFA have already been permanently implemented by NMFS through separate actions.

Alternatives will be grouped into three categories of management measures for the purpose of analysis: (1) Alternatives for allocating the BSAI pollock resource among industry sectors, vessels and processors, (2) alternatives for harvesting and processing sideboard limits for AFA vessels and processors in other fisheries, and (3) alternatives for monitoring and enforcement.

Alternatives for allocating the BSAI pollock resource. The AFA provides an explicit formula for allocating the BSAI pollock resource among the CDQ, inshore, mothership, and catcher/processor sectors. The AFA further defines which vessels and processors are eligible to participate in the inshore, mothership, and catcher/processor sectors and sets an overall harvesting excessive share cap of 17.5 percent of the BSAI pollock directed fishery which no individual, corporation, or other entity may exceed. The AFA also provides guidelines for the formation of fishery cooperatives and for the allocation of BSAI pollock to fishery cooperatives. The EIS will examine the environmental and economic effects of proposed Amendments 61/61/13/8 that would allocate pollock according to the formulas set out in the AFA and contrast this allocation alternative against the no-action alternative (i.e., the pre-AFA regime). The EIS also will analyze various alternative mechanisms for allocating BSAI pollock to fishery cooperatives that have been proposed by the Council including alternatives that would modify the restrictions on inshore cooperative membership and requirements that tie inshore cooperatives to specific processors. However, the EIS will not examine, in detail, different sector allocation formulas or alternative qualification criteria for vessels and processors that would be inconsistent with the AFA and that would be outside the authority of the Council to recommend or NMFS to implement.

Alternatives for harvesting and processing sideboards. Since November 1998, the Council has examined a wide range of alternative measures for harvesting and processing sideboards. At its June 1999 meeting, the Council considered various options for establishing groundfish harvesting sideboard amounts for catcher/processors and groundfish and crab sideboard amounts for catcher vessels. The Council also considered various methods by which harvesting sideboards would be managed and considered various exemptions for catcher vessels that meet certain criteria. The full range of harvesting sideboard alternatives considered by the Council will be analyzed in the EIS including the Council's preferred alternative under proposed Amendments 61/61/13/8. The EIS will also examine the crab processing sideboard alternatives developed by the Council. However, the EIS will not examine alternatives for groundfish processing sideboards and excessive processing shares. The Council is currently examining groundfish processing sideboards and excessive processing share limits as a separate action and is preparing a separate analysis to examine those issues for initial review at its June 2000 Council meeting.

Alternatives for monitoring and enforcement. A suite of new monitoring and enforcement measures are required to implement the limited access allocation program effectively for BSAI pollock and the accompanying sideboard measures proposed under Amendments 61/61/13/8. The AFA sets out new observer and scale requirements for catcher/processors but is silent with respect to monitoring and enforcement of both BSAI pollock and sideboard fisheries in the mothership and inshore sectors. The EIS will examine a range of monitoring and enforcement options including electronic recordkeeping and reporting requirements, observer coverage requirements, and scale and catch weighing requirements for all three sectors of the BSAI directed pollock fishery.

Issues

The environmental consequences section of the EIS will examine the impacts of fishing and processing under pre-AFA management regulations and under a range of representative alternative management alternatives to implement the requirements of the AFA. The environmental issues to be examined include: (1) marine habitat and water quality, (2) major fish species, (3) bycatch, (4) marine mammals, (5) seabirds, and (6) cumulative and synergistic impacts on species across the food web. In addition, the environmental consequences section will contain summary, interpretation, and predictions for economic and socioeconomic issues associated with the conduct of the BSAI pollock fishery on the following individuals and groups: (1) Those who participate in harvesting the fishery resources off Alaska, (2) those who process and market the fishery resources harvested off Alaska, (3) those who are involved in allied support industries, (4) those who consume these fishery products, (5) those who rely on these fishery resources for subsistence or recreational needs, (6) those who benefit from non-consumptive uses of these living marine resources, (7) those involved in managing and monitoring these fisheries, and (8) affected fishing communities.

NMFS requests public input on the range of environmental, economic and socioeconomic issues that should be considered in this EIS on proposed Amendments 61/61/13/8.

Public Involvement

Scoping for the EIS begins with publication of this document. The Council will receive a presentation of the EIA project and the public will have opportunity to comment on the scope of the EIS at the Council's April 2000 meeting (Anchorage, AK, Hilton Hotel, April 12-17, 2000). Additional scoping meetings are not scheduled. The proposed action has already been subject to a lengthy development process that has included early and meaningful opportunity for public participation in the development of the proposed action including eight Council meetings beginning with a special Council meeting on the AFA in November 1998, and including every Council meeting since that date. The Council also has formed special committees to examine specific aspects of the AFA in detail including the structure and management of inshore cooperatives and the issue of processor sideboards. The Council provided notice of these meetings and they were open to the public.

Dated: April 3, 2000.
Bruce C. Morehead,
Acting Director, Office of Sustainable Fisheries, National Marine Fisheries Service.

[FR Doc. 00-8576 Filed 4-5-00; 8:45 am]

BILLING CODE 3510-22-F